AGENCY FOR INTERNATIONAL DEVELOPMENT

Notice of Advisory Committee Public Meeting

AGENCY: Agency for International Development (USAID).

ACTION: Notice of advisory committee public meeting and request for public comment.

SUMMARY: Pursuant to the Federal Advisory Committee Act (FACA), notice is hereby given of Advisory Committee on Voluntary Foreign Aid (ACVFA) public meeting on Wednesday, May 24, 2023.

ADDRESSES: To view additional information related to ACVFA please visit http://www.usaid.gov/who-we-are/organization/advisory-committee.

This event will feature remarks by the USAID Administrator and the ACVFA Chair, as well as two discussion panels featuring ACVFA members on key Agency priorities such as food security, climate change, democratic governance, private sector engagement, and inclusive development.

You may submit comments regarding the work of ACVFA to acvfa@usaid.gov OR the committee's public comment form at: https://www.usaid.gov/who-we-are/organization/advisory-committee/acvfa-contact-us. Include “Public Comment, ACVFA Meeting, May 24 2023” in the subject line. All public comments and questions will be included in the official record of the meeting and posted publicly on the USAID website.

American Sign Language interpretation will be provided during the public meeting. If you require a reasonable accommodation, please email reasonableaccommodations@usaid.gov. Include “Request for Reasonable Accommodation, ACVFA Meeting, May 24” in the subject line.

The entirety of this meeting is open to the public. You may register to watch the live public meeting at this link: https://usaid.zoomgov.com/webinar/register/WN_4DaAIfWTTgG5x0Tof8G8YA.

FOR FURTHER INFORMATION CONTACT: Sophia Lajaunie, Designated Federal Officer for ACVFA, at slajaunie@usaid.gov or 202-531-9819.

SUPPLEMENTARY INFORMATION: ACVFA is USAID's external advisory committee, bringing together representatives from private voluntary organizations, nongovernmental organizations (NGOs), academia, civil society, and the private sector. Its membership of internationally recognized leaders represent a broad range of sectors who support the Agency's mission and goals by advising on key development challenges and priorities.

Pursuant to its charter, ACVFA is holding an annual public meeting on May 24, 2023, from 9:00 a.m.-10:30 a.m. ET. This meeting is free and open to the public. The Committee welcomes public participation and comment before, during, and after the meeting via the web and/or email addresses provided above.

Sophia Lajaunie,
ACVFA Designated Federal Officer.

[FR Doc. 2023-09172 Filed 4-28-23; 8:45 am]

BILLING CODE 6116-01-P